DEPARTMENT OF DEFENSE

Department of the Air Force

[Docket ID USAF-2008-0030]

Privacy Act of 1974; System of Records

AGENCY: Department of the Air Force, DoD.

ACTION: Notice to alter a system of records.

SUMMARY: The Department of the Air Force proposes to alter a system of records to its inventory of record systems subject to the Privacy Act of 1974 (5 U.S.C. 552a), as amended.

DATES: The proposed action will be effective on December 12, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on October 24, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: November 3, 2008.
Morgan E. Frazier,
Alternate OSD Federal Register Liaison Officer, Department of Defense.

F036 SAFCB A

System name:

Military Records Processed by the Air Force Correction Board (May 7, 1999, 64 FR 24605).

Changes:

* * * * *

System name:

Delete entry and replace with “Air Force Correction Board Records.”

System location:

Delete entry and replace with “Office of the Secretary of the Air Force, 1535 Command Drive, Andrews Air Force Base, MD 20762-7002 and the Washington National Records Center, 4205 Suitland Road, Suitland, MD 20409-8001.”

Categories of individuals covered by the system:

Delete entry and replace with “All members or former members of the Air Force; Army Air Forces, Air Corps, United States Army; Air Service, United States Navy; and Aviation Section, Signal Corps, United States Army, who have applied to the Air Force Board for the Correction of Military Records (AFBCMR), Physical Disability Board of Review (PDBR), Secretary of the Air Force Personnel Council (SAFPC), or Air Force Civilians applying to the Air Force Civilian Appellate Review Office (AFCARO).”

Categories of records in the system:

Delete entry and replace with “Individual's name, Social Security Number (SSN), case number, applications for correction of military records, applications to the PDBR, Secretary of the Air Force Personnel Council (SAFPC) or civilian complaints processed by the Department of the Air Force AFCARO with supporting evidence, staff advisory opinions and final determinations.”

Authority for maintenance of the system:

Delete entry and replace with “10 U.S.C. 8013, Secretary of the Air Force; 10 U.S.C. 1554a, DoD Disability Review Board and E.O. 9397 (SSN).”

Purpose(s):

Delete entry and replace with “To review applications for correction of military records to determine the existence of an error or injustice, to review disability ratings for medical separations and, when appropriate, make recommendations to the Secretary of the Air Force and other Service Secretaries.

Additionally, to review and make determinations of cases boarded by the SAFPC and complaints processed by AFCARO.”

* * * * *

Storage:

Delete entry and replace with “Maintained in file folders and electronic storage media.”

Retrievability:

Delete entry and replace with “By name and Case Number.”

Safeguards:

Delete entry and replace with “Paper and electronic records are accessed by person(s) responsible for servicing the record system in performance of their official duties and by authorized personnel who are properly screened and cleared for need-to-know. Records are stored in locked rooms and cabinets. Electronic records are additionally password protected. A record of access by identity is recorded and retrievable.”

* * * * *

System manager(s) and address:

Delete entry and replace with “Executive Secretary, Air Force Review Boards Agency, 1535 Command Drive, Andrews Air Force Base, MD 20762-7002.”

Notification procedure:

Delete entry and replace with “Individual seeking to determine whether this system of records contains information on themselves should address inquiries to the Executive Secretary, Air Force Board for the Correction of Military Records, 1535 Command Drive, Andrews Air Force Base, MD 20762-7002.

Request must provide applicant's full name, Social Security Number (SSN), and docket number (if known/applicable).”

Record access procedures:

Delete entry and replace with “Individuals seeking to access records about themselves contained in this system should address requests to the Executive Secretary, Air Force Review Boards Agency, Headquarters, United States Air Force, 1535 Command Drive, Andrews Air Force Base, MD 20762-7002.

Request must provide applicant's full name, Social Security Number (SSN), and docket number (if known/applicable).”

Contesting record procedures:

Delete entry and replace with “The Air Force rules for accessing records and for contesting and appealing initial agency determinations are published in Air Force Instruction 33-332, Privacy Act Program; 32 CFR part 806b; or may be obtained from the system manager.”

Record source categories:

Delete entry and replace with “Information is obtained from applicants, forms, Air Force offices and/or other Government agencies.”

* * * * *

F036 SAFCB A

System name:

Air Force Correction Board Records.

System location:

Office of the Secretary of the Air Force, 1535 Command Drive, Andrews Air Force Base, MD 20762-7002 and the Washington National Records Center, 4205 Suitland Road, Suitland, MD 20409-8001.

Categories of individuals covered by the system:

All members or former members of the Air Force; Army Air Forces, Air Corps, United States Army; Air Service, United States Navy; and Aviation Section, Signal Corps, United States Army, who have applied to the Air Force Board for the Correction of Military Records (AFBCMR), Physical Disability Board of Review (PDBR), Secretary of the Air Force Personnel Council (SAFPC), or Air Force Civilians applying to the Air Force Civilian Appellate Review Office (AFCARO).

Categories of records in the system:

Individual's name, Social Security Number (SSN), case number, applications for correction of military records, applications to the PDBR, Secretary of the Air Force Personnel Council (SAFPC) or civilian complaints processed by the Department of the Air Force AFCARO with supporting evidence, staff advisory opinions and final determinations.

Authority for maintenance of the system:

10 U.S.C. 8013, Secretary of the Air Force; 10 U.S.C. 1554a, DoD Disability Review Board and E.O. 9397 (SSN).

Purpose(s):

To review applications for correction of military records to determine the existence of an error or injustice, to review disability ratings for medical separations and, when appropriate, make recommendations to the Secretary of the Air Force and other Service Secretaries. Additionally, to review and make determinations of cases boarded by the SAFPC and complaints processed by AFCARO.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” published at the beginning of the Air Force's compilation of systems of records notices apply to this system.

Policies and practices for storing, retrieving, accessing, retaining, and disposing of records in the system:

Storage:

Maintained in file folders and electronic storage media.

Retrievability:

By name and Case Number.

Safeguards:

Paper and electronic records are accessed by person(s) responsible for servicing the record system in performance of their official duties and by authorized personnel who are properly screened and cleared for need-to-know. Records are stored in locked rooms and cabinets. Electronic records are additionally password protected. A record of access by identity is recorded and retrievable.

Retention and disposal:

Case files are maintained for 75 years then destroyed. Records are destroyed by tearing into pieces, shredding, pulping, macerating or burning.

System manager(s) and address:

Executive Secretary, Air Force Review Boards Agency, 1535 Command Drive, Andrews Air Force Base, MD 20762-7002.

Notification procedure:

Individual seeking to determine whether this system of records contains information on themselves should address inquiries to the Executive Secretary, Air Force Board for the Correction of Military Records, 1535 Command Drive, Andrews Air Force Base, MD 20762-7002.

Request must provide applicant's full name, Social Security Number (SSN), and docket number (if known/applicable).

Record access procedures:

Individuals seeking to access records about themselves contained in this system should address requests to the Executive Secretary, Air Force Review Boards Agency, Headquarters, United States Air Force, 1535 Command Drive, Andrews Air Force Base, MD 20762-7002.

Request must provide applicant's full name, Social Security Number (SSN), and docket number (if known/applicable).

Contesting record procedures:

The Air Force rules for accessing records and for contesting and appealing initial agency determinations are published in Air Force Instruction 33-332, Privacy Act Program; 32 CFR part 806b; or may be obtained from the system manager.

Record source categories:

Information is obtained from applicants, forms, Air Force offices and/or other Government agencies.

Exemptions claimed for the system:

None.

[FR Doc. E8-26755 Filed 11-10-08; 8:45 am]

BILLING CODE 5001-06-P